DEPARTMENT OF AGRICULTURE

Forest Service

Notice of Agreement Under the Comprehensive Environmental Response, Compensation and Liability Act (CERCLA)

AGENCY: Forest Service, USDA and Department of Interior.

ACTION: Notice of proposed settlement agreement; request for public comment.

SUMMARY: In accordance with Section 122(i) of the Comprehensive Environmental Response, Compensation, and Liability Act (“CERCLA”), 42 U.S.C. 9622(i), notice is hereby given of a proposed administrative settlement between the United States, on behalf of the U.S. Department of Interior and the U.S. Department of Agriculture, Forest Service and NL Industries, Inc. for the recovery of costs incurred by the United States in responding to the release or threatened release of hazardous substances at and from the El Portal Barium Mine and Mill Site in El Portal, Mariposa County, California. Under the proposed settlement, NL Industries will pay $190,000 to the US Department of Interior's Central Hazardous Materials Fund and $85,000 to the U.S. Department of Agriculture, Forest Service.

DATES: Comments must be received, in writing, on or before February 22, 2002.

ADDRESSES: Written comments on this proposed settlement agreement may be sent to: both James E. Alexander, USDA Office of General Counsel, Room 1734 Federal Building, 1220 SW 3rd Avenue, Portland, Oregon 97224 and Shawn P. Mulligan, National Park Service, 1050 Walnut Street, Suite 220, Boulder, Colorado 80302 and should refer to the El Portal Barium Mine and Mill site, El Portal, Mariposa County, California. A copy of the proposed settlement agreement may be obtained by mail from Mary Grove, USDA Office of General Counsel, Room 1734 Federal Building, 1220 SW 3rd Avenue, Portland, Oregon 97224.

Dated: January 14, 2002.
Jack A. Blackwell,
Regional Forester, USDA Forest Service, Region 5.

[FR Doc. 02-1445 Filed 1-22-02; 8:45 am]

BILLING CODE 3410-11-M